DEPARTMENT OF ENERGY

Federal Energy Regulatory Commission

Combined Notice of Filings #1

Take notice that the Commission received the following electric corporate filings:

Docket Numbers: EC19-135-000.

Applicants: Avangrid Renewables, LLC, Avangrid Arizona Renewables, LLC, Poseidon Wind, LLC.

Description: Application for Authorization Under Section 203 of the Federal Power Act, et al. of Avangrid Renewables, LLC, et al.

Filed Date: 9/3/19.

Accession Number: 20190903-5213.

Comments Due: 5 p.m. ET 9/24/19.

Take notice that the Commission received the following exempt wholesale generator filings:

Docket Numbers: EG19-179-000.

Applicants: Thermo Cogeneration Partnership, L.P.

Description: Notice of Self-Certification of Exempt Wholesale Generator Status of Thermo Cogeneration Partnership, L.P.

Filed Date: 9/4/19.

Accession Number: 20190904-5073.

Comments Due: 5 p.m. ET 9/25/19.

Take notice that the Commission received the following electric rate filings:

Docket Numbers: ER19-2733-000.

Applicants: California Independent System Operator Corporation.

Description: § 205(d) Rate Filing: 2019-09-03 Energy Storage and Distributed Energy Resources Phase 3 Amendment to be effective 11/13/2019.

Filed Date: 9/3/19.

Accession Number: 20190903-5164.

Comments Due: 5 p.m. ET 9/24/19.

Docket Numbers: ER19-2377-001.

Applicants: Midcontinent Independent System Operator, Inc., Michigan Electric Transmission Company.

Description: Tariff Amendment: 2019-09-04_SA 3330 Assembly Solar LLC-METC Substitute E&P (J796) to be effective 7/2/2019.

Filed Date: 9/4/19.

Accession Number: 20190904-5049.

Comments Due: 5 p.m. ET 9/25/19.

Docket Numbers: ER19-2734-000.

Applicants: Stream Energy Columbia, LLC.

Description: § 205(d) Rate Filing: Market-Based Rate Tariff Revisions to be effective 9/4/2019.

Filed Date: 9/3/19.

Accession Number: 20190903-5182.

Comments Due: 5 p.m. ET 9/24/19.

Docket Numbers: ER19-2735-000.

Applicants: Stream Energy Delaware, LLC.

Description: § 205(d) Rate Filing: Market-Based Rate Tariff Revisions to be effective 9/4/2019.

Filed Date: 9/3/19.

Accession Number: 20190903-5183.

Comments Due: 5 p.m. ET 9/24/19.

Docket Numbers: ER19-2736-000.

Applicants: Stream Energy Illinois, LLC.

Description: § 205(d) Rate Filing: Market-Based Rate Tariff Revisions to be effective 9/4/2019.

Filed Date: 9/3/19.

Accession Number: 20190903-5184.

Comments Due: 5 p.m. ET 9/24/19.

Docket Numbers: ER19-2737-000.

Applicants: Stream Energy New Jersey, LLC.

Description: § 205(d) Rate Filing: Market-Based Rate Tariff Revisions to be effective 9/4/2019.

Filed Date: 9/3/19.

Accession Number: 20190903-5186.

Comments Due: 5 p.m. ET 9/24/19.

Docket Numbers: ER19-2738-000.

Applicants: Stream Energy New York, LLC.

Description: § 205(d) Rate Filing: Market-Based Rate Tariff Revisions to be effective 9/4/2019.

Filed Date: 9/3/19.

Accession Number: 20190903-5189.

Comments Due: 5 p.m. ET 9/24/19.

Docket Numbers: ER19-2739-000.

Applicants: Stream Ohio Gas & Electric, LLC.

Description: § 205(d) Rate Filing: Market-Based Rate Tariff Revisions to be effective 9/4/2019.

Filed Date: 9/3/19.

Accession Number: 20190903-5192.

Comments Due: 5 p.m. ET 9/24/19.

Docket Numbers: ER19-2740-000.

Applicants: Public Service Company of Colorado.

Description: § 205(d) Rate Filing: PSC-COGRN-Revised ISA-146-0.1.0-Agrmt to be effective 11/4/2019.

Filed Date: 9/4/19.

Accession Number: 20190904-5002.

Comments Due: 5 p.m. ET 9/25/19.

Docket Numbers: ER19-2741-000.

Applicants: Mid-Atlantic Interstate Transmission, LLC, PJM Interconnection, L.L.C.

Description: § 205(d) Rate Filing: MAIT submits 14 ECSAs, Service Agreement Nos. 5335, 5404, 5405, et al to be effective 11/3/2019.

Filed Date: 9/4/19.

Accession Number: 20190904-5010.

Comments Due: 5 p.m. ET 9/25/19.

Docket Numbers: ER19-2742-000.

Applicants: Stream Energy Connecticut, LLC.

Description: Notice of Cancellation of Market-Based Rate Tariff of Stream Energy Connecticut, LLC.

Filed Date: 9/4/19.

Accession Number: 20190904-5028.

Comments Due: 5 p.m. ET 9/25/19.

Docket Numbers: ER19-2743-000.

Applicants: Stream Energy Indiana, LLC.

Description: Notice of Cancellation of Market-Based Rate Tariff of Stream Energy Indiana, LLC.

Filed Date: 9/4/19.

Accession Number: 20190904-5031.

Comments Due: 5 p.m. ET 9/25/19.

Docket Numbers: ER19-2744-000.

Applicants: Stream Energy Massachusetts, LLC.

Description: Notice of Cancellation of Market-Based Rate Tariff of Stream Energy Massachusetts, LLC.

Filed Date: 9/4/19.

Accession Number: 20190904-5037.

Comments Due: 5 p.m. ET 9/25/19.

Docket Numbers: ER19-2745-000.

Applicants: New Creek Wind LLC.

Description: Baseline eTariff Filing: Reactive Power Compensation Filing to be effective 11/4/2019.

Filed Date: 9/4/19.

Accession Number: 20190904-5062.

Comments Due: 5 p.m. ET 9/25/19.

Docket Numbers: ER19-2746-000.

Applicants: PJM Interconnection, L.L.C.

Description: § 205(d) Rate Filing: Original ISA, Service Agreement No. 5453, Non-queue NQ159 to be effective 12/31/2019.

Filed Date: 9/4/19.

Accession Number: 20190904-5063.

Comments Due: 5 p.m. ET 9/25/19.

Docket Numbers: ER19-2747-000.

Applicants: Southwest Power Pool, Inc.

Description: § 205(d) Rate Filing: 3593 Frontier Windpower II GIA to be effective 8/23/2019.

Filed Date: 9/4/19.

Accession Number: 20190904-5064.

Comments Due: 5 p.m. ET 9/25/19.

Docket Numbers: ER19-2748-000.

Applicants: Southwest Power Pool, Inc.

Description: § 205(d) Rate Filing: 3595 Skeleton Creek Wind GIA to be effective 8/23/2019.

Filed Date: 9/4/19.

Accession Number: 20190904-5067.

Comments Due: 5 p.m. ET 9/25/19.

Docket Numbers: ER19-2749-000.

Applicants: PJM Interconnection, L.L.C.

Description: § 205(d) Rate Filing: Original ISA, SA No. 5463; Queue No. AB2-190 to be effective 8/9/2019.

Filed Date: 9/4/19.

Accession Number: 20190904-5081.

Comments Due: 5 p.m. ET 9/25/19.

Docket Numbers: ER19-2750-000.

Applicants: SGE Energy Sourcing, LLC.

Description: § 205(d) Rate Filing: Market-Based Rate Tariff Revisions to be effective 9/5/2019.

Filed Date: 9/4/19.

Accession Number: 20190904-5121.

Comments Due: 5 p.m. ET 9/25/19.

Docket Numbers: ER19-2751-000.

Applicants: Stream Energy Maryland, LLC.

Description: § 205(d) Rate Filing: Market-Based Rate Tariff Revisions to be effective 9/5/2019.

Filed Date: 9/4/19.

Accession Number: 20190904-5122.

Comments Due: 5 p.m. ET 9/25/19.

Docket Numbers: ER19-2752-000.

Applicants: Stream Energy Pennsylvania, LLC.

Description: § 205(d) Rate Filing: Market-Based Rate Tariff Revisions to be effective 9/5/2019.

Filed Date: 9/4/19.

Accession Number: 20190904-5124.

Comments Due: 5 p.m. ET 9/25/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 4, 2019.
Nathaniel J. Davis, Sr.,
Deputy Secretary.

[FR Doc. 2019-19477 Filed 9-9-19; 8:45 am]

BILLING CODE 6717-01-P